DEPARTMENT OF TRANSPORTATION

Federal Aviation Administration

Membership in the National Parks Overflights Advisory Group

AGENCY: Federal Aviation Administration, Transportation.

ACTION: Notice.

SUMMARY: By Federal Register notice on October 31, 2017 the National Park Service (NPS) and the Federal Aviation Administration (FAA) invited interested persons to apply to fill two upcoming openings on the National Parks Overflights Advisory Group (NPOAG). The notice invited interested persons to apply to fill future openings to represent air tour operator concerns and Native American interests. This notice informs the public that no selections were made for those vacancies representing air tour operator and Native American interests and invites persons interested in serving on the NPOAG to apply for those openings.

DATES: Persons interested in applying for the NPOAG openings representing air tour operator and Native American interests need to apply by June 15, 2018.

FOR FURTHER INFORMATION CONTACT: Keith Lusk, Special Programs Staff, Federal Aviation Administration, Western-Pacific Region Headquarters, 15000 Aviation Boulevard, Lawndale, CA 90261, telephone: (310) 725-3808, email: Keith.Lusk@faa.gov.

SUPPLEMENTARY INFORMATION:

Background

The National Parks Air Tour Management Act of 2000 (the Act) was enacted on April 5, 2000, as Public Law 106-181, and subsequently amended in the FAA Modernization and Reform Act of 2012. The Act required the establishment of the advisory group within one year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating one-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG is made up of one member representing general aviation, three members representing the commercial air tour industry, four members representing environmental concerns, and two members representing Native American interests. Current members of the NPOAG are as follows:

Melissa Rudinger representing general aviation; Alan Stephen and Matt Zuccaro, representing commercial air tour operators with one opening; Les Blomberg, Rob Smith, John Eastman, and Dick Hingson representing environmental interests; and Martin Begaye representing Native American tribes with one opening. One NPOAG member representing air tour operator interests resigned in October 2017 and the 3-year membership term of Leigh Kuwanwisiwma expired on April 2, 2018.

Selection

No selections were made based on applications received after the October 31, 2017 Federal Register notice. A limited number of persons expressed interest in the air tour operator opening and no persons expressed interest in filling the other opening to represent Native American interests. Therefore the FAA and NPS, through this notice, are again soliciting interest for the air tour operator and Native American openings.

The FAA and NPS invite persons interested in serving on the NPOAG to contact Mr. Keith Lusk (contact information is written above in FOR FURTHER INFORMATION CONTACT). Requests to serve on the NPOAG must be made to Mr. Lusk in writing and postmarked or emailed on or before June 15, 2018. The request should indicate whether or not you are a member of an association or group related to air tour operator or Native American concerns or have another affiliation with issues relating to aircraft flights over national parks. The request should also state what expertise you would bring to the NPOAG as related to issues and concerns with aircraft flights over national parks. The term of service for NPOAG members is 3 years. Current members may re-apply for another term.

On August 13, 2014, the Office of Management and Budget issued revised guidance regarding the prohibition against appointing or not reappointing federally registered lobbyists to serve on advisory committees (79 Federal Register 47482).

Therefore, before appointing an applicant to serve on the NPOAG, the FAA and NPS will require the prospective candidate to certify that they are not a federally registered lobbyist.

Issued in Hawthorne, CA on April 16, 2018.
Keith Lusk,
Program Manager, Special Programs Staff, Western-Pacific Region.

[FR Doc. 2018-08344 Filed 4-19-18; 8:45 am]

BILLING CODE 4910-13-P